DEPARTMENT OF THE INTERIOR

Bureau of Land Management

[LLCON03000 L16100000.DP0000]

Notice of Availability of the Draft Resource Management Plan and Draft Environmental Impact Statement for the Grand Junction Field Office in Colorado

AGENCY: Bureau of Land Management, Interior.

ACTION: Notice of Availability.

SUMMARY: In accordance with the National Environmental Policy Act of 1969, as amended, and the Federal Land Policy and Management Act of 1976, as amended, the Bureau of Land Management (BLM) has prepared a Draft Resource Management Plan (RMP) and Draft Environmental Impact Statement (EIS) for the Grand Junction Field Office (GJFO) and by this notice is announcing the opening of the public comment period.

DATES: To ensure that comments will be considered, the BLM must receive written comments on the Draft RMP/Draft EIS within 90 days following the date the Environmental Protection Agency publishes this notice of the Draft RMP/Draft EIS in the Federal Register. The BLM will announce future meetings or hearings and any other public participation activities at least 15 days in advance through public notices, media releases, and/or mailings.

ADDRESSES: You may submit comments related to the GJFO Draft RMP/Draft EIS by any of the following methods:

• email: gjfo_rmp@blm.gov.

• fax: 970-244-3083.

• mail: BLM—GJFO RMP, 2815 H Road, Grand Junction, CO 81506. Copies of the GJFO Draft RMP/Draft EIS are available in the GJFO at the above address or on the Web site at: http://www.blm.gov/co/st/en/fo/gjfo/rmp.html.

FOR FURTHER INFORMATION CONTACT: Collin Ewing, Planning and Environmental Coordinator, telephone 970-244-3027; see address above; email cewing@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM prepared the GJFO Draft RMP/Draft EIS to analyze and revise the current management decisions for public lands and resources within the GJFO planning area. The current management decisions for resources are described in the Grand Junction Record of Decision and Approved Resource Management Plan (RMP) (approved January, 1987), as amended (1987 GJFO RMP).

The GJFO planning area includes approximately 2.2 million acres of BLM, National Park Service, U.S. Forest Service, U.S. Bureau of Reclamation, state, local, and private lands located in northwestern Colorado, primarily in Mesa and Garfield counties, with additional small tracts located in Montrose and Rio Blanco counties. Within the GJFO planning area, the BLM administers approximately 1.1 million surface acres and 1.2 million acres of Federal oil and gas mineral (subsurface) estate. Surface management decisions made as a result of this Draft RMP/Draft EIS will apply only to the BLM-administered lands in the GJFO planning area.

The formal public scoping process for the GJFO RMP/EIS began on October 15, 2008, with the publication of a Notice of Intent in the Federal Register, and ended on January 9, 2009. The BLM held three scoping open houses in December 2008. The BLM held an additional six public workshops in February 2009 for travel management data collection to give the public the opportunity to review its route inventory for completeness and accuracy, as well as offer suggestions for possible reroutes or new routes that would complement the existing system. Following the travel management workshops, the BLM held an additional public comment period was held from July 17 through August 21, 2009, to help the BLM evaluate the quantity and quality of the experiences and desired recreation setting available in the planning area. The BLM used public scoping comments to identify planning issues that led to the formulation of alternatives and framed the scope of analysis in the Draft RMP/Draft EIS. The scoping process was also used to introduce the public to preliminary planning criteria, which set limits on the scope of the Draft RMP/Draft EIS.

Major issues considered in the Draft RMP/Draft EIS include travel management; energy development; recreation management; lands and realty/community growth and expansion; wildlife and fish; special designation areas; lands with wilderness characteristics; water, soil, and riparian areas; special status species management; and vegetation management, among others.

The Draft RMP/Draft EIS evaluates in detail four alternatives, including the No Action Alternative (Alternative A) and three action alternatives (Alternatives B, C, and D). The BLM has identified Alternative B as the preferred alternative. Identification of this alternative, however, does not represent the final agency direction, and the Proposed RMP may reflect changes or adjustments based on information received during public comment, from new information, or from changes in BLM policies or priorities. The Proposed RMP may include objectives and actions described in the other analyzed alternatives.

Alternative A would retain the current management goals, objectives and direction specified in the 1987 GJFO RMP. Alternative B seeks to balance resources among competing human interests and land uses with the conservation of natural and cultural resource values, while sustaining the ecological integrity of certain key habitats for plant, wildlife and fish species. It incorporates a balanced level of protection, restoration, enhancement, and use of resources and services to meet ongoing programs and land uses. Goals and objectives focus on environmental, economic and social outcomes achieved by strategically addressing demands across the landscape. Alternative C emphasizes non-consumptive use and management of resources through protection, restoration and enhancement, while also providing for multiple uses, including livestock grazing and mineral development. This alternative would establish the greatest number of special designation areas with specific measures to protect or enhance resource values within these areas. Goals and objectives focus on environmental and social outcomes achieved by sustaining relatively unmodified physical landscapes and natural and cultural resource values for current and future generations. Alternative D emphasizes active management for natural resources, commodity production, and public use opportunities. Resource uses, such as recreation, livestock grazing, mineral leasing and development, would be emphasized. Existing uses would continue and new uses would be accommodated to the greatest extent possible while maintaining resource conditions.

Pursuant to 43 CFR 1610.7-2(b), this notice announces a concurrent public comment period on proposed Areas of Critical Environmental Concern (ACECs). Proposed ACECs and the resource use limitations which would occur if formally designated are as follows:

• Atwell Gulch, up to 6,100 acres, Alternatives B, and C: No surface occupancy; close to fluid mineral leasing; Visual Resource Management (VRM) Class II; right-of-way (ROW) exclusion area; close to motorized travel including over-snow motorized travel; close to mechanized travel; issue no special recreation permits for competitive events; close 2,900 acres to livestock grazing; close to fossil collection; only allow vegetation treatments for the benefit of the identified relevance and importance values.

• Badger Wash, up to 2,200 acres, Alternatives A, B, C and D: No surface occupancy; close to fluid mineral leasing; limit travel to designated routes; VRM Class II; ROW exclusion area; issue no special recreation permits for competitive events.

• Colorado River Riparian, 880 acres, Alternative C: No surface occupancy; classify as unsuitable for coal leasing; limit travel to designated routes; VRM Class II; ROW avoidance area; and only allow vegetation treatments for the benefit of the identified relevance and importance values.

• Coon Creek, 110 acres, Alternative C: No surface occupancy; limit travel to designated routes; VRM Class III; ROW avoidance area; and close to livestock grazing.

• Dolores River Riparian, 7,400 acres, Alternatives B and C: No surface occupancy; close to fluid mineral leasing; limit travel to designated routes; VRM Class II; ROW avoidance area; issue no special recreation permits for competitive events; only allow vegetation treatments for the benefit of the identified relevance and importance values; only allow camping in designated sites; and close to recreational placer mining.

• Glade Park-Pinyon Mesa, 27,200 acres, Alternative C: No surface occupancy; close to fluid mineral leasing; limit travel to designated routes; VRM Class II; ROW avoidance area; only allow vegetation treatments for the benefit of the identified relevance and importance values; and open to livestock grazing outside of occupied sage-grouse habitat.

• Gunnison River Riparian, 460 acres, Alternative C: No surface occupancy; limit travel to designated routes; VRM Class II; ROW avoidance area; and only allow camping in designated sites.

• Hawxhurst Creek, 860 acres, Alternative C: No surface occupancy; limit travel to designated routes; VRM Class II; and ROW avoidance area.

• Indian Creek, 1,700 acres, Alternatives B and C: No surface occupancy; limit travel to designated routes; VRM Class II; and ROW exclusion area.

• John Brown Canyon, 1,400 acres, Alternative C: No surface occupancy; close to fluid mineral leasing; limit travel to designated routes; and VRM Class II.

• Juanita Arch, 1,600 acres, Alternatives B and C: No surface occupancy; close to fluid mineral leasing; close to motorized and mechanized travel; VRM Class II; ROW exclusion area.

• Mt. Garfield, up to 5,700 acres, Alternatives B and C: No surface occupancy; close to fluid mineral leasing; close to motorized travel including over-snow travel; VRM Class I; ROW exclusion area; close to fossil collection; classify as unsuitable for coal leasing; close to recreational target shooting; close to livestock grazing.

• Nine-mile Hill Boulders, 90 acres, Alternative C: Close to motorized travel including over-snow travel; close to mechanized travel; VRM Class II; ROW exclusion area; issue no special recreation permits for competitive events.

• The Palisade, up to 32,200 acres, Alternatives A, B, C and D: No surface occupancy; close to fluid mineral leasing; close to motorized travel; VRM Class I; ROW exclusion area; issue no special recreation permits for competitive events; limit forestry cutting units to 20 acres or less in the pinyon-juniper woodlands; close to mineral material disposal.

• Plateau Creek, 220 acres, Alternative C: No surface occupancy; VRM Class II; limit travel to designated routes; close to recreational target shooting; only allow camping in designated sites; ROW avoidance area; close to all types of collection (e.g., fossil, vegetation, rocks, etc.); only allow vegetation treatments and wildlife habitat improvements for the benefit of the identified relevance and importance values; classify as unsuitable for coal leasing; issue only Class I and II special recreation permits; and close to livestock grazing.

• Prairie Canyon, 6,900 acres, Alternative C: No surface occupancy; close to fluid mineral leasing; VRM Class II; limit travel to designated routes; close to recreational target shooting; ROW exclusion area; close to vegetative materials sales; and only allow vegetation treatments and wildlife habitat improvements for the benefit of the identified relevance and importance values.

• Pyramid Rock, up to 1,300 acres, Alternatives A, B, C and D: No surface occupancy; close to fluid mineral leasing; VRM Class II; close to all modes of travel; close to recreational target shooting; close to camping; ROW exclusion area; close to all types of collection (e.g., fossil, vegetation, rocks, etc.); classify as unsuitable for coal leasing; issue no special recreation permits for competitive events; close to livestock grazing.

• Reeder Mesa, 470 acres, Alternative C: No surface occupancy; VRM Class III; limit travel to designated routes; ROW exclusion area.

• Roan and Carr Creeks, up to 33,600 acres, Alternatives B and C: No surface occupancy; close to fluid mineral leasing; VRM Class II; close to motorized travel including over-snow travel; close to mechanized travel; ROW avoidance area; and classify as unsuitable for coal leasing.

• Rough Canyon, up to 2,800 acres, Alternatives A, B, C and D: No surface occupancy; close to fluid mineral leasing; VRM Class II; limit travel to designated routes; ROW exclusion area; close to mineral material disposal.

• Sinbad Valley, 6,400 acres, Alternatives B and C: No surface occupancy; close to fluid mineral leasing; VRM Class II; close to motorized travel, except for Tabeguache Trail; ROW avoidance area.

• South Shale Ridge, 28,200 acres, Alternatives B and C: No surface occupancy; close to fluid mineral leasing; VRM Class II; limit travel to designated routes; and ROW exclusion area.

• Unaweep Seep, up to 85 acres, Alternatives A, B, C and D: No surface occupancy; close to fluid mineral leasing; close to motorized travel including over-snow travel; close to mechanized travel; VRM Class II; ROW exclusion area; close to camping; issue no special recreation permits for competitive events; close to fossil collection; and close to mineral material disposal.

Please note that public comments and information submitted including names, street addresses, and email addresses of persons who submit comments will be available for public review and disclosure at the above address during regular business hours (8:00 a.m. to 4:00 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Helen M. Hankins,
BLM Colorado State Director.

[FR Doc. 2013-01400 Filed 1-24-13; 8:45 am]

BILLING CODE 4310-JB-P